INTERNATIONAL TRADE COMMISSION

[Investigation No. 337-TA-1098]

Certain Subsea Telecommunication Systems and Components Thereof; Commission Determination Not To Review an Initial Determination Granting a Motion for Leave To Amend the Complaint and Notice of Investigation To Reflect a Corporate Name Change

AGENCY: U.S. International Trade Commission.

ACTION: Notice.

SUMMARY: Notice is hereby given that the U.S. International Trade Commission has determined not to review an initial determination (“ID”) (Order No. 21) of the presiding administrative law judge (“ALJ”), granting complainant's unopposed motion for leave to amend the complaint and notice of investigation to reflect the corporate name change of complainant Neptune Subsea Acquisitions Ltd. to Xtera Topco Ltd.

FOR FURTHER INFORMATION CONTACT: Amanda Pitcher Fisherow, Esq., Office of the General Counsel, U.S. International Trade Commission, 500 E Street SW, Washington, DC 20436, telephone (202) 205-2737. Copies of non-confidential documents filed in connection with this investigation are or will be available for inspection during official business hours (8:45 a.m. to 5:15 p.m.) in the Office of the Secretary, U.S. International Trade Commission, 500 E Street SW, Washington, DC 20436, telephone (202) 205-2000. General information concerning the Commission may also be obtained by accessing its internet server at https://www.usitc.gov. The public record for this investigation may be viewed on the Commission's electronic docket (EDIS) at https://edis.usitc.gov. Hearing-impaired persons are advised that information on this matter can be obtained by contacting the Commission's TDD terminal on (202) 205-1810.

SUPPLEMENTARY INFORMATION: The Commission instituted this investigation on January 26, 2018, based on a complaint, as supplemented, filed on behalf of Neptune Subsea Acquisitions Ltd. of the United Kingdom; Neptune Subsea IP Ltd. of the United Kingdom; and Xtera, Inc. of Allen, Texas (“complainants”). 83 FR 3370 (Jan. 26, 2018). The complaint, as supplemented, alleges violations of Section 337 of the Tariff Act of 1930, as amended, 19 U.S.C. 1337 (“section 337”), based upon the importation into the United States, the sale for importation, and the sale within the United States after importation of certain subsea telecommunication systems and components thereof by reason of infringement of one or more claims of U.S. Patent No. 8,380,068; U.S. Patent No. 7,860,403; U.S. Patent No. 8,971,171; U.S. Patent No. 8,351,798; and U.S. Patent No. 8,406,637. The complaint further alleges that an industry in the United States exists as required by section 337. The Notice of Investigation named Nokia Corporation of Espoo, Finland; Nokia Solutions and Networks B.V. of Hoofddorp, The Netherlands; Nokia Solutions and Networks Oy of Espoo, Finland; Alcatel-Lucent Submarine Networks SAS of Boulogne-Billancourt, France; Nokia Solutions and Networks US LLC of Phoenix, Arizona; NEC Corporation of Tokyo, Japan; NEC Networks & System Integration Corporation of Tokyo, Japan; and NEC Corporation of America of Irving, Texas as respondents. The Office of Unfair Import Investigations was named as a party in this investigation.

On May 30, 2018, the complainants filed an unopposed motion for leave to amend the complaint and notice of investigation to reflect a corporate name change of one of the complainants from Neptune Subsea Acquisitions Ltd. to Xtera Topco Ltd.

On July 10, 2018, the ALJ issued the subject ID, granting complainants' unopposed motion. The ALJ found that good cause exists to amend the complaint and notice of investigation and that there was no evidence that the proposed amendment would harm the public interest or prejudice to the parties in the investigation. No petitions for review were filed.

The Commission has determined not to review the ID.

The authority for the Commission's determination is contained in section 337 of the Tariff Act of 1930, as amended (19 U.S.C. 1337), and in Part 210 of the Commission's Rules of Practice and Procedure (19 CFR part 210).

By order of the Commission.
Issued: July 27, 2018.
Lisa Barton,
Secretary to the Commission.

[FR Doc. 2018-16485 Filed 7-31-18; 8:45 am]

BILLING CODE 7020-02-P